DEPARTMENT OF TRANSPORTATION

Federal Motor Carrier Safety Administration

[Docket No. FMCSA-2009-0030]

Agency Information Collection Activities; Revision and Renewal of a Currently-Approved Information Collection: Annual and Quarterly Report of Class I Motor Carriers of Passengers (OMB Control Number 2126-0031)

AGENCY: Federal Motor Carrier Safety Administration (FMCSA), DOT.

ACTION: Notice and request for comments.

SUMMARY: In accordance with the Paperwork Reduction Act of 1995, FMCSA announces its plan to submit to the Office of Management and Budget (OMB) its request to revise a currently-approved information collection for Class I Motor Carriers of Passengers (Form MP-1) entitled, “Annual and Quarterly Reports.” This information collection is necessary to ensure that motor carriers comply with financial and operating statistics requirements at chapter III of title 49 CFR part 369 entitled, “Reports of Motor Carriers.” The agency invites public comments on this information request.

DATES: We must receive your comments on or before May 26, 2009.

ADDRESSES: You may submit comments bearing the Federal Docket Management System (FDMS) Docket Number FMCSA-2009-0030 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington DC, 20590-0001 between 9 a.m. and 5 p.m., e.t., Monday through Friday, except Federal Holidays.

• Fax: 1-202-493-2251.

Each submission must include the Agency name and the docket number for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, 20590-0001 between 9 a.m. and 5 p.m., Monday through Friday, except Federal holidays. The FDMS is available 24 hours each day, 365 days each year. If you want acknowledgement that we received your comments, please include a self-addressed, stamped envelope or post card or print the acknowledgement page that appears after submitting them on-line.

Privacy Act: Anyone may search the electronic form of all comments received into any of our dockets by the name of the individual submitting the comment (or of the person signing the comment, if submitted on behalf of an association, business, labor union, etc.). You may review the DOT's complete Privacy Act Statement in the Federal Register on April 11, 2000 (65 FR 19476). This information is also available at http://docketsinfo.dot.gov.

FOR FURTHER INFORMATION CONTACT: Ms. Vivian Oliver, Office of Research and Information Technology, Department of Transportation, Federal Motor Carrier Safety Administration, West Building 6th Floor, 1200 New Jersey Avenue, SE., Washington, DC 20590. Telephone: 202-366-2974; e-mail Vivian.Oliver@dot.gov.

SUPPLEMENTARY INFORMATION: Background: For-hire Class I motor carriers of passengers (including interstate and intrastate) ¹ are required to file Motor Carrier Annual and Quarterly Reports (Form MP-1) that provide financial and operating data (see 49 U.S.C. 14123; and implementing FMCSA regulations at 49 CFR part 369). The agency uses this information to assess the health of the industry and identify industry changes that may affect national transportation policy. The data also show company financial stability and traffic patterns. Motor carriers of passengers required to comply with the regulations are classified on the basis of their annual gross carrier operating revenues. Under the F&OS program the FMCSA collects balance sheet and income statement data along with information on tonnage, mileage, employees, transportation equipment, and other related data.

¹ For purposes of the Financial & Operating Statistics (F&OS) program, passenger carriers are classified into the following two groups; (1) Class I carriers are those having average annual gross transportation operating revenues (including interstate and intrastate) of $5 million or more from passenger motor carrier operations after applying the revenue deflator formula as shown in the Note at 49 CFR 369.3; and (2) Class II passenger carriers are those having average annual gross transportation operating revenues (including interstate and intrastate) of less than $5 million from passenger motor carrier operations after applying the revenue deflator formula as shown in the Note at 49 CFR 369.3. Only Class I carriers of passengers are required to file the Annual and Quarterly Report Form MP-1. Class II passenger carriers, however, must notify the agency when there is a change in their classification or their revenues exceed the Class II limit.

The data and information collected is made publicly available as prescribed in 49 CFR part 369. Class I and Class II motor carriers are required by 49 U.S.C. 14123 to file annual and quarterly financial reports with the Secretary. The Secretary has exercised his discretion under section 14123 to also require Class I property carriers (including dual-property carriers), Class I household goods carriers and Class I passengers carriers to file quarterly reports.

Over the years, the regulations were formerly administered by the Interstate Commerce Commission (ICC), but the ICC Termination Act of 1995 (ICCTA) (Pub. L. 104-88, 109 Stat. 803 (Dec. 29, 1995); now codified at 49 U.S.C. 14123) abolished the ICC and transferred the responsibility for collecting and disseminating motor carrier financial information to the Secretary of Transportation (Secretary). On September 30, 1998, the Secretary delegated and transferred the authority to administer the F&OS program to the former Bureau of Transportation Statistics (BTS), now a part of the Research and Innovative Technology Administration (RITA), to former Chapter XI, subchapter 13 of 49 CFR part 1420 (63 FR 52192).

On September 29, 2004, the Secretary transferred the responsibility for the F&OS program from BTS to FMCSA in the belief that the program was more aligned with FMCSA's safety mission and its other motor carrier responsibilities (69 FR 51009). On August 10, 2006 (71 FR 45740), the Secretary published a final rule that transferred and redesignated the motor carrier financial and statistical reporting regulations of BTS that were formerly located at chapter XI of title 49 CFR to FMCSA in 49 chapter III of title 49 CFR part 369.

Title: Annual and Quarterly Report of Class I Motor Carriers of Passengers (formerly OMB Control Number 2139-0003).

New OMB Control Number: 2126-0031.

Type of Request: Revision and renewal of a currently-approved information collection request.

Respondents: Class I Motor Carriers of Passengers.

Estimated Number of Respondents: 6.

Estimated Time per Response: 18 minutes per response.

Expiration Date: September 30, 2009.

Frequency of Response: Annually and quarterly.

Estimated Total Annual Burden: 9 hours [30 responses × 18 minutes per response/60 minutes = 9].

Public Comments Invited: You are asked to comment on any aspect of this information collection, including: (1) Whether the proposed collection is necessary for FMCSA to perform its mission; (2) the accuracy of the estimated burden; (3) ways for FMCSA to enhance the quality, usefulness, and clarity of the collected information; and (4) ways that the burden could be minimized without reducing the quality of the collected information. The agency will summarize and/or include your comments in the request for OMB's clearance of this information collection.

Issued on: March 16, 2009.
Terry Shelton,
Associate Administrator for Research and Information Technology.

[FR Doc. E9-6458 Filed 3-23-09; 8:45 am]

BILLING CODE 4910-EX-P